DEPARTMENT OF VETERANS AFFAIRS

[OMB Control No. 2900-0716]

Agency Information Collection (Complaint of Employment Discrimination) Activity Under OMB Review

AGENCY: Office of Resolution Management, Department of Veterans Affairs.

ACTION: Notice.

SUMMARY: In compliance with the Paperwork Reduction Act (PRA) of 1995 (44 U.S.C. 3501-21), this notice announces that the Office of Resolution Management (ORM), Department of Veterans Affairs, will submit the collection of information abstracted below to the Office of Management and Budget (OMB) for review and comments. The PRA submission describes the nature of the information collection and its expected cost and burden; it includes the actual data collection instrument.

DATES: Written comments and recommendations on the proposed collection of information should be received on or before February 26, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0716” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0716” in any correspondence.

SUPPLEMENTARY INFORMATION: Title: Complaint of Employment Discrimination.

OMB Control Number: 2900-0716.

Type of Review: Revision of a currently approved collection.

Abstract: VA employees, former employees, applicants for employment and contractors who believe they were subject to discrimination because of their Race, Color, Religion, Sex, National Origin, Age, Disability, Genetic Information (including family medical history), and Reprisal for participating in the EEO process or opposing unlawful discrimination complete VA Form 4939 to file complaint of discrimination.

An agency may not conduct or sponsor, and a person is not required to respond to a collection of information unless it displays a currently valid OMB control number. The Federal Register Notice with a 60-day comment period soliciting comments on this collection of information was published at 79 FR 67242, November 12, 2014.

Affected Public: Individuals or households.

Estimated Annual Burden: 158 hours.

Estimated Average Burden per Respondent: 30 minutes.

Frequency of Response: On occasion.

Estimated Number of Respondents: 315.

Dated: January 22, 2015.
By direction of the Secretary:
Crystal Rennie,
Department of Clearance Officer, Department of Veterans Affairs.

[FR Doc. 2015-01388 Filed 1-26-15; 8:45 am]

BILLING CODE 8320-01-P